DEPARTMENT OF TRANSPORTATION

Federal Aviation Administration

14 CFR Part 71

[Docket No. FAA-2023-1325; Airspace Docket No. 23-AGL-17]

RIN 2120-AA66

Amendment of VOR Federal Airway V-36 and Establishment of RNAV Route T-675; Northcentral United States

AGENCY: Federal Aviation Administration (FAA), DOT.

ACTION: Final rule, delay of effective date.

SUMMARY: This action changes the effective date of a final rule published in the Federal Register on September 22, 2023, amending Very High Frequency Omnidirectional Range (VOR) Federal airway V-36 and establishing Canadian Area Navigation (RNAV) route T-675 in the northcentral United States (U.S.). The FAA is delaying the effective date to coincide with the expected completion of the associated aeronautical data requirements for establishing all segments of Canadian RNAV route T-675 within U.S. airspace and to adopt the rule amendments concurrently.

DATES: The effective date of the final rule published on September 22, 2023 (88 FR 65311) is delayed from November 30, 2023, to March 21, 2024. The Director of the Federal Register approved this incorporation by reference action under Title 1 Code of Federal Regulations part 51, subject to the annual revision of FAA JO Order 7400.11 and publication of conforming amendments.

FOR FURTHER INFORMATION CONTACT: Colby Abbott, Rules and Regulations Group, Office of Policy, Federal Aviation Administration, 800 Independence Avenue SW, Washington, DC 20591; telephone: (202) 267-8783.

SUPPLEMENTARY INFORMATION:

Background

The FAA published a final rule in the Federal Register for Docket No. FAA-2023-1325 (88 FR 65311, September 22, 2023), amending VOR Federal airway V-36 and establishing Canadian RNAV route T-675 within U.S. airspace. In the final rule, the FAA added a cross-border route segment to T-675, at NavCanada's request, and explained the inclusion of the additional route segment as a difference from the proposed action published in the notice of proposed rulemaking (NPRM). The effective date for that final rule is November 30, 2023. After publishing the final rule, the FAA realized that not all the necessary aeronautical data required for establishing the additional segment of Canadian RNAV route T-675 within U.S. airspace had been submitted in time or accomplished for updating the FAA's National Airspace System Resource (NASR) database to meet the November 30, 2023, effective date. The FAA has determined delaying the effective date for the entire rule prevents confusion associated with amending V-36 and establishing T-675 in Airspace Docket 23-AGL-17 with two different effective dates for two chart cycles four months apart, and ensures all of the V-36 and T-675 actions publish accurately and concurrently on the same date.

The FAA expects to complete the associated aeronautical data requirements and update the NASR database for establishing all segments of Canadian RNAV route T-675 by March 21, 2024; therefore, the rule amending VOR Federal airway V-36 and establishing Canadian RNAV route T-675 within US airspace is delayed to coincide with that date.

VOR Federal airways are published in paragraph 6010(a) and Canadian Area Navigation Routes (T-routes) are published in paragraph 6013 of FAA JO Order 7400.11, Airspace Designations and Reporting Points, which is incorporated by reference in 14 CFR 71.1 on an annual basis. This document amends the current version of that order, FAA Order JO 7400.11H, dated August 11, 2023, and effective September 15, 2023. FAA Order JO 7400.11H is publicly available online at www.faa.gov/air_traffic/publications/. You may also contact the Rules and Regulations Group, Office of Policy, Federal Aviation Administration, 800 Independence Avenue SW, Washington DC 20591; telephone: (202) 267-8783.

FAA Order JO 7400.11H lists Class A, B, C, D, and E airspace areas, air traffic service routes, and reporting points.

Good Cause for No Notice and Comment

Section 553(b)(3)(B) of Title 5, United States Code, (the Administrative Procedure Act) authorizes agencies to dispense with notice and comment procedures for rules when the agency for “good cause” finds that those procedures are “impracticable, unnecessary, or contrary to the public interest.” Under this section, an agency, upon finding good cause, may issue a final rule without seeking comment prior to the rulemaking. The FAA finds that prior notice and public comment to this final rule is unnecessary due to the brief length of the extension of the effective date and the fact that there is no substantive change to the rule.

Delay of Effective Date

Accordingly, pursuant to the authority delegated to me, the effective date of the final rule, Airspace Docket 23-AGL-17, as published in the Federal Register on September 22, 2023 (88 FR 65311), FR Doc. 2023-20449, is hereby delayed until March 21, 2024.

Authority: 49 U.S.C. 106(f), 106(g); 40103, 40113, 40120; E.O. 10854, 24 FR 9565, 3 CFR, 1959-1963 Comp., P. 389.

Issued in Washington, DC, on October 13, 2023.
Karen L. Chiodini,
Acting Manager, Rules and Regulations Group.

[FR Doc. 2023-22993 Filed 10-18-23; 8:45 am]

BILLING CODE 4910-13-P